DEPARTMENT OF HOMELAND SECURITY

Federal Emergency Management Agency

[Docket ID FEMA-2007-0008]

National Advisory Council

AGENCY: Federal Emergency Management Agency, DHS.

ACTION: Committee Management; Notice of Federal Advisory Committee Meeting.

SUMMARY: The National Advisory Council (NAC) will meet on April 26, 2013 in Washington, DC. The meeting will be open to the public.

DATES: The NAC will meet on Friday, April 26, 2013, from 8:30 a.m. to 4:30 p.m. Eastern Daylight Time (EDT). Please note that the meeting may close early if the committee has completed its business.

ADDRESSES: The meeting will be held at Hilton Garden Inn Capitol Hill located at 1225 First Street NE., Washington, DC 20002. Additionally, a conference line has been established for those members of the public interested in attending via teleconference: 1-800-320-4330 with Conference Bridge PIN 271425#.

For information on facilities or services for individuals with disabilities or to request special assistance at the meeting, contact the Office of the NAC as soon as possible. See contact information under FOR FURTHER INFORMATION CONTACT section below.

To facilitate public participation, members of the public are invited to comment on the issues to be considered by the committee, as listed in the SUPPLEMENTARY INFORMATION section. Written comments or requests to make oral presentations must be submitted in writing no later than April 25, 2013 and must be identified by Docket ID FEMA-2007-0008 and may be submitted by one of the following methods:

• Federal eRulemaking Portal: http://www.regulations.gov. Follow the instructions for submitting comments.

• Mail/Courier: Regulatory Affairs Division, Office of Chief Counsel, FEMA, 500 C Street SW., Washington, DC 20472-3100.

Instructions: All submissions received must include the words “Federal Emergency Management Agency” and the Docket ID FEMA-2007-0008 for this action. Comments received will be posted without alteration at http://www.regulations.gov, including any personal information provided.

Docket: For access to the docket to read background documents or comments received by the NAC, go to http://www.regulations.gov.

A public comment period will be held during the meeting from 3:30 p.m. to 4:00 p.m. EDT. Those seeking to offer public comments must register in advance with the Office of the NAC and limit their comments to three (3) minutes. The public comment period is limited to a maximum of 10 speakers. Please note that the public comment period may end before the time indicated, following the last call for comments. There will also be a brief opportunity for public comment after each subcommittee report out. Briefing materials will be posted to the NAC Web site, http://www.fema.gov/national-advisory-council, as they become available.

FOR FURTHER INFORMATION CONTACT: Alexandra Woodruff, Alternate Designated Federal Officer, Office of the National Advisory Council, Federal Emergency Management Agency, 500 C Street SW., Washington, DC 20472-3100, telephone (202) 646-3746, fax (540) 504-2331, and email FEMA-NAC@fema.dhs.gov. The NAC Web site is located here: http://www.fema.gov/national-advisory-council.

SUPPLEMENTARY INFORMATION: Notice of this meeting is given under the Federal Advisory Committee Act, 5 U.S.C. App. (Pub. L. 92-463). The Federal Advisory Committee Act requires that notices of meetings of advisory committees be announced in the Federal Register 15 days prior to the meeting date. This notice is published less than 15 days prior to the meeting date due to increased budgetary restrictions and approval requirements for meetings as well as staffing changes. Because the NAC meeting is also accessible via teleconference, there will not be an undue burden on the public to arrange travel to attend this meeting. Notice of this meeting is also provided on the NAC's Web site at http://www.fema.gov/national-advisory-council.

The NAC advises the Administrator of FEMA on all aspects of emergency management. The NAC incorporates State, local, and Tribal governments, and private sector partners' input in the development and revision of FEMA plans and strategies. FEMA's Office of the NAC serves as the focal point for all NAC coordination.

Agenda: The NAC will meet with the FEMA Administrator and FEMA Deputy Administrator for the purpose of reviewing the progress and/or potential recommendations of its three subcommittees: Preparedness and Protection; Response and Recovery; and Federal Insurance and Mitigation. The full agenda will be posted on the NAC Web site.

The NAC will discuss how FEMA allocates planning, training, and funding resources to ensure whole community response and recovery efforts are sustainable beyond 72 hours; the National Mass Care Strategy; the review and update of the National Incident Management System (NIMS); Group Flood Insurance Policy; Biggert-Waters Flood Insurance Reform Act of 2012; the FEMA Qualification System (FQS); and the Sandy Recovery Improvement Act. There will also be a briefing on the FEMA Sandy After Action Report and the National Preparedness Grant Program.

The National Mass Care Strategy will provide a framework to enhance coordination, pool expertise and strengthen response capacity of mass care throughout the nation. The “Strategy” will assist in establishing common goals, foster collaborative planning and identifying resource needs to build national mass care capability. More information about the National Mass Care Strategy can be found at https://nmcs.communityos.org/cms/node/42.

The National Incident Management System (NIMS) is foundational doctrine, providing a blueprint for unified preparedness and all hazards incident support and management, and is applicable at all levels. The National Integration Center is leading the National effort to update the NIMS. More information about NIMS can be found at http://www.fema.gov/national-incident-management-system.

Group Flood Insurance Policy (GFIP) is issued by the National Flood Insurance Policy (NFIP) Direct Program in response to a presidential disaster declaration. Disaster assistance applicants, in exchange for a modest premium, receive a GFIP certificate for a minimum amount of building and/or contents coverage for a 3-year policy period. An applicant may cancel the group policy certificate at any time and secure a regular Standard Flood Insurance Policy through the NFIP.

In 1968, Congress created the National Flood Insurance Program (NFIP) to help provide a way for property owners to financially protect themselves by offering flood insurance if their community participates in the NFIP. Participating communities adopt and enforce ordinances that meet or exceed FEMA requirements to reduce the risk of flooding. FEMA announced the extension of the Preferred Risk Policy eligibility under the NFIP until further notice, as the Agency completes a study and analysis of the Biggert-Waters Flood Insurance Reform Act of 2012, signed into law by President Obama on July 6, 2012. More information can be found at http://www.floodsmart.gov/floodsmart/pages/about/nfip_overview.jsp.

The primary purpose of the FEMA Qualifications System (FQS) is to provide the best possible customer service to survivors and communities working to respond to, recover from, and mitigate against disasters. FQS helps build FEMA's disaster response and recovery capability by providing personnel with the training and experience needed to assume positions of progressively greater responsibility. More information on FQS can be found at http://www.fema.gov/fema-qualification-system.

The Sandy Recovery Improvement Act (SRIA) included language that authorized federally recognized Tribes to submit declaration requests directly to the President. A fact sheet on the SRIA can be found at http://www.fema.gov/library/viewRecord.do?id=6983.

The National Preparedness Grant Program (NPGP) seeks to sustain and continue to build on prevention, protection, response, and recovery capabilities to create robust national capacity based on cross-jurisdictional and readily deployable state and local assets. More information can be found at https://www.fema.gov/pdf/government/grant/fy2013_npgp_grant_program_overview.pdf.

Dated: April 16, 2013.
W. Craig Fugate,
Administrator, Federal Emergency Management Agency.

[FR Doc. 2013-09279 Filed 4-18-13; 8:45 am]

BILLING CODE 9111-48-P